DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed highway project, 24th Street Improvement Project, from the southbound State Route 99 ramp intersection to 0.2 mile east of M Street, for a distance of about 2.1 miles, and improvements on State Route 99 for the northbound auxiliary lane from 1,500 feet south of and to the Kern River Bridge in the County of Kern, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 17, 2014. If the Federal law that authorizes judicial review of a claim provides a time period of less than 150 days for filing such claim, then that shorter time period still applies.

FOR FURTHER INFORMATION CONTACT: California Department of Transportation, Jennifer Taylor, Office Chief, Division Management Southern San Joaquin Valley, 855 M Street, Suite 200, Fresno, CA 93721, (559) 445-6455, jennifer.taylor@dot.ca.gov, Mon.-Fri. 7:00 a.m.-3:30 p.m. PDT.

SUPPLEMENTARY INFORMATION: Effective July 1, 2007, the FHWA assigned, and Caltrans assumed, environmental responsibilities for this project pursuant to 23 U.S.C. 327. Notice is hereby given that the Caltrans, has taken final agency actions subject to 23 U.S.C. 139(l)(1) by issuing licenses, permits, and approvals for the following highway project in the State of California: 24th Street Improvement Project on State Route 58 west of State Route 99, and on State Route 178 east of State Route 99, in the City of Bakersfield in Kern County, California. Caltrans proposes to widen roadways and make intersection and interchange improvements along 24th Street. In addition to proposed improvements along 24th Street, a northbound auxiliary lane along State Route 99 south of 24th Street is planned. The total length of the project area is 2.1 miles. The actions by the Federal agencies, and the laws under which such actions were taken, are described in the Environmental Assessment (EA) with Finding of No Significant Impact (FONSI) and Section 4(f) Evaluation for the project, approved on February 13, 2014, and in other documents in the FHWA project records. The EA/FONSI and Section 4(f) Evaluation, and other project records are available by contacting Caltrans at the address provided above. The Caltrans EA/FONSI and Section 4(f) Evaluation can be viewed and downloaded from the project Web site at: http://www.dot.ca.gov/dist6/.

This notice applies to all Federal agency decisions as of the issuance date of this notice and all laws under which such actions were taken, including but not limited to:

1. General: National Environmental Policy Act (NEPA) [42 U.S.C. 4321-4335].

2. Air: Clean Air Act [23 U.S.C. 109 (j) and 42 U.S.C 7521(a)].

3. Land: Section 4(f) of the Department of Transportation Act of 1966 [23 U.S.C. 138 and 49 U.S.C. 303]; Wild and Scenic Rivers Act [16 U.S.C. 1271-1287]; The Public Health and Welfare [42 U.S.C. 4331 (b)(2)].

4. Wildlife: Federal Endangered Species Act [16 U.S.C. 1531-1543]; Fish and Wildlife Coordination Act [16 U.S.C. 661-666(C); Migratory Bird Treaty Act [16 U.S.C. 760c-760g].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: NEPA implementation [23 U.S.C. 109(h)]; Civil Rights Act of 1964 [42 U.S.C. 2000(d)-2000(d)(1)].

7. Wetlands and Water Resources: Clean Water Act [33 U.S.C. 1344]; Wild and Scenic Rivers Act [16 U.S.C. 1271-1287].

8. Executive Orders: E.O. 11990 Protection of Wetlands; E.O. 13112 Invasive Species; E.O. 11988 Floodplain management; E.O. 12898 Federal actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Dated: June 16, 2014.
Jermaine Hannon,
Acting Director, Project Delivery, Federal Highway Administration, Sacramento, California.

[FR Doc. 2014-14478 Filed 6-19-14; 8:45 am]

BILLING CODE 4910-RY-P